DEPARTMENT OF TRANSPORTATION

Surface Transportation Board

[Finance Docket No. 34075]

Six County Association of Governments—Construction and Operation Exemption—Rail Line Between Levan and Salina, Utah

AGENCY: Surface Transportation Board, DOT.

ACTION: Preparation of Supplemental Information on Alternatives and Wetlands and Extension of Comment Period.

SUMMARY: On July 30, 2001, the Six County Association of Governments (SCAOG) filed a Petition for Exemption with the Surface Transportation Board (Board) pursuant to 49 U.S.C. 10502 for authority to construct and operate a new rail line between Juab and Salina, Utah. The project involves approximately 43 miles of new rail line and ancillary facilities in Sanpete, Juab, and Sevier Counties that would connect the Union Pacific Railroad about 16 miles south of Nephi, near Juab, Utah, to a proposed coal transfer terminal facility about 0.5 mile southwest of Salina. The Proposed Action is known as the Central Utah Rail Project (CURP). Because the construction and operation of this project has the potential to result in significant environmental impacts, the Board's Section of Environmental Analysis (SEA) prepared, and issued, a Draft Environmental Impact Statement (EIS) on June 29, 2007. The comment period for the Draft EIS closed on August 22, 2007.

Shortly before the end of the public comment period on the Draft EIS, however, SEA determined that additional information on alternatives and wetlands is warranted to ensure that those reviewing the document have all the information they need to comment effectively on the analysis contained in the Draft EIS. Therefore, SEA will prepare and issue Supplemental Information on Alternatives and Wetlands (Supplemental Information) to assist the public in its review of the proposed CURP project and extend the comment period on the Draft EIS.

This notice is to inform individuals and agencies interested in or affected by the proposed CURP project that SEA will be issuing Supplemental Information in the near future. At that time, SEA will announce the availability of the Supplemental Information in the Federal Register and on the Board's Web site. SEA will also set the date for when comments on both the Supplemental Information and the Draft EIS are due.

After the close of the extended comment period, SEA will prepare a Final EIS that considers comments received on both the Draft EIS and Supplemental Information. When considering whether to grant final approval of the proposed action, the Board will consider the DEIS, Supplemental Information, the Final EIS, and all environmental comments that are received.

FOR FURTHER INFORMATION CONTACT: Phillis Johnson-Ball, (202) 245-0304. Federal Information Relay Service for the hearing impaired: 1-800-877-8339.

Decided: August 21, 2007.
By the Board, Victoria Rutson, Chief, Section of Environmental Analysis.
Vernon A. Williams,
Secretary.

[FR Doc. E7-16765 Filed 8-23-07; 8:45 am]

BILLING CODE 4915-01-P